DEPARTMENT OF COMMERCE

National Institute of Standards and Technology

[Docket No.: 050314070-5070-01]

Request for Technical Input—Standards in Trade Workshops

AGENCY: National Institute of Standards and Technology.

ACTION: Request for workshop recommendations.

SUMMARY: The National Institute of Standards and Technology (NIST) invites interested parties to submit recommendations for workshops covering specific sectors and targeted countries or regions of the world where training in the U.S. system of standards development, conformity assessment, and metrology may facilitate trade. Prospective workshops may be scheduled for one or two week periods. This notice is not an invitation for proposals to fund grants, contracts or cooperative agreements of any kind. NIST will offer a limited number of workshops, based upon the availability of resources. Recommenders are encouraged to consider departmental priorities outlined in part of the soon-to-be released National Export Strategy. NIST will consider recommendations based upon which workshops would be most useful to intended audiences. Additional information about the NIST Standards in Trade Workshops is available at http://ts.nist.gov/ts/htdocs/210/gsig/sitdescr.htm.

DATES: All recommendations must be submitted no later than 5 p.m., June 3, 2005.

ADDRESSES: All recommendations must be submitted to Elisabeth Gomez via email (elisabeth.gomez@nist.gov) or by mail to 100 Bureau Drive, Stop 2100, Gaithersburg, MD, 20899. The National Export Strategy is available at http://www.ita.doc.gov/media/publications/. Additional information about the NIST Standards in Trade Workshops, to include schedules and summary reports for workshops held to date and participant information, is available at http://ts.nist.gov/ts/htdocs/210/gsig/sitdescr.htm.

FOR FURTHER INFORMATION CONTACT: Elisabeth Gomez (301) 975-3089, elisabeth.gomez@nist.gov.

SUPPLEMENTARY INFORMATION: The Standards in Trade Workshops are a major activity of the Global Standards and Information Group in the NIST Standards Services Division (SSD). The workshops are designed to provide timely information to foreign standards officials on U.S. practices in standards and conformity assessment. Participants are introduced to U.S. technology and principles in metrology, standards development and application, and conformity assessment systems.

Each workshop is a one or two week program offering an overview of the roles of the U.S. Government, private sector, and regional and international organizations engaged in standards development and conformity assessment practices. Specific workshop objectives are to: (1) Familiarize participants with U.S. technology and practices in metrology, standardization, and conformity assessment; (2) describe and understand the roles of the U.S. Government and the private sector in developing and implementing standards; and (3) develop professional contacts as a basis for strengthening technical ties and enhancing trade.

Workshop recommendations (maximum 5 pages) must address at a minimum the following points, in the order noted and labeled accordingly:

1. Name and Description of the Recommending Organization

Provide the primary mailing address and a brief description of the organization, including the name, telephone number and email address of the primary point of contact.

2. Industry Sector and Suggested Workshop Title

Provide a description of the suggested industrial sector and focus area with a possible workshop title which captures the essence of the recommendation. Consider the goals and potential benefits.

3. Proposed Workshop Objectives

Describe the intended goals to be attained and why they are important and list the specific possible workshop objectives.

4. Calendar Dates Suggested for Workshop

Provide three or more suggested start dates for the workshop. The first date should be no earlier than 8 months from the publication date of this announcement.

5. Relevant NIST Organizational Link

Workshop topics must be linked to NIST activities and/or research. The appropriate NIST organizational unit, laboratory or program must be identified by the recommender and the relevance of the activity to NIST must be demonstrated. If known, identify the specific NIST staff who could serve as the NIST internal point of contact.

6. Proposed Foreign Participants

Provide a representative list of the foreign organizations that might participate in the workshop, including a description of their function or business and their country of incorporation or origin.

7. U.S. Stakeholder Participants (e.g., Associations, Agencies, Users, others)

Provide a representative list of other U.S.-based organizations that are likely to participate in the workshop.

8. Principal Topics

Provide a list of the suggested topics for the workshop.

9. Related Site Visits and Events

Workshops can include visits to relevant business sites or events. Provide a list of suggested site visit locations, events or other areas of interest and discuss the relevance of each to the overall purpose of the proposed workshop's goals.

10. Expected Outcomes/Measures of Success

Include in this section a description of:

a. The anticipated benefit of the workshop for trade and market access;

b. The anticipated economic impacts (in dollars);

c. The potential for future opportunities for trade as a result of the workshop;

d. The measures of success;

e. The desired results of the workshop and how the results will be measured.

All recommendations must address each of the above ten points and be submitted to Elisabeth Gomez via email (elisabeth.gomez@nist.gov) or mail 100 Bureau Drive, Stop 2100, Gaithersburg, MD 20899 no later than 5 p.m., June 3, 2005.

Dated: May 12, 2005.
Hratch G. Semerjian,
Acting Director.

[FR Doc. 05-9946 Filed 5-18-05; 8:45 am]

BILLING CODE 3510-13-P